DEPARTMENT OF TRANSPORTATION

Federal Railroad Administration

FY 2016 Railroad Safety Technology Grant Funds

AGENCY: Federal Railroad Administration (FRA), Department of Transportation (DOT).

ACTION: Notice of Funding Opportunity (NOFO).

SUMMARY: This notice details the application requirements and procedures for obtaining funding for eligible Railroad Safety Technology Grant projects. The opportunities described in this notice are available under Catalog of Federal Domestic Assistance number 20.321, “Railroad Safety Technology.”

DATES: Applications for funding under this solicitation are due no later than 5:00 p.m. DST May 20, 2016. Applications for funding received after 5:00 p.m. DST on May 20, 2016 will not be considered. See Section 4 of this notice for additional information regarding the application process.

ADDRESSES: Applications must be submitted via Grants.gov. For any required or supporting application materials that an applicant is unable to submit via Grants.gov (such as oversized engineering drawings), an applicant may submit an original and two (2) copies to Mr. Marvin Winston, Office of Program Delivery, Federal Railroad Administration, 1200 New Jersey Avenue SE., Room W36-440, Washington, DC 20590; Email: marvin.winston@dot.gov. However, due to delays caused by enhanced screening of mail delivered via the U.S. Postal Service, applicants are advised to use other means of conveyance (such as courier service) to assure timely receipt of materials.

FOR FURTHER INFORMATION CONTACT: If you have a project related question, you may contact Dr. Mark Hartong, Scientific and Technical Advisor (Phone: (202) 493-1332; email: Mark.Hartong@dot.gov), or Mr. Devin Rouse, Program Manager (Phone: (202) 493-6185, email: devin.rouse@dot.gov). Grant application submission and processing questions should be addressed to Mr. Marvin Winston, Office of Program Delivery, Federal Railroad Administration, 1200 New Jersey Avenue SE., Room W36-440, Washington, DC 20590; Email: marvin.winston@dot.gov.

SUPPLEMENTARY INFORMATION:

Notice to applicants: FRA recommends applicants read this notice in its entirety prior to preparing application materials. There are several administrative prerequisites described herein that applicants must comply with in order to submit an application, as well as specific eligibility requirements that must be met. Additionally, applicants should note that the required Project Narrative component of the application package may not exceed 25 pages in length (including any appendices).

Table of Contents

1. Funding Opportunity Description

2. Award Information

3. Eligibility and Review Criteria

4. Application and Submission Information

5. Award Administration Information

6. Agency Contact

Section 1: Funding Opportunity Description

The purpose of this notice is to solicit applications for grants for eligible railroad safety technology projects. Congress appropriated the funding available under this NOFO, $25 million, in the Consolidated Appropriations Act, 2016, Division L, Title I (Pub. L. 114-113 (December 18, 2015)), to carry out railroad safety technology grants as set forth in 49 U.S.C. 20158. To maximize the benefits of the funding available, FRA is limiting the eligible projects to those that implement a Positive Train Control (PTC) system or, as described in Section 3, will otherwise benefit overall PTC system implementation on freight, intercity passenger, and commuter railroads.

Section 2: Award Information

FRA anticipates making multiple awards from the funding made available in this notice and is not predetermining any minimum or maximum dollar amounts for awards. However, given the limited amount of funding currently available, applicants are encouraged to limit their Federal funding requests to a maximum of $3,000,000 per application. While this $3,000,000 application limit is a recommendation and not a firm requirement, applicants exceeding this $3,000,000 threshold must explain why any requested funding over $3,000,000 is necessary to implement the proposed project. Collaborative applicants submitting a project that will benefit more than five (5) entities (e.g., one entity implementing back office systems for multiple (five or more) railroads) may request up to the authorized appropriation limit of $25,000,000. Additionally, FRA may choose to award a grant for less than the amount requested in the application. FRA will make awards for projects selected under this notice as grants with an 80% federal/20% non-federal cost share. The funding provided under these grants will be made available to grantees on a reimbursable basis.

Applications will proceed through a three-part review process:

1. Screening for completeness and eligibility;

2. Evaluation of eligible applications by technical panels applying the evaluation criteria; and

3. Project selection by the FRA Administrator applying additional selection criteria.

Each application will first be screened for eligibility (requirements outlined in Section 3 of this notice) and completeness (containing all required documentation outlined in Section 4 of this notice).

A technical panel consisting of subject-matter experts will evaluate eligible and complete applications using the evaluation criteria outlined in Section 3 of this notice. FRA will award funds to projects that are well-aligned with one or more of the evaluation and selection criteria. In addition, FRA will consider whether a project has a negative effect on any of the evaluation and selection criteria, and any such negative effect may reduce the likelihood that it will select the project for award.

Section 3: Eligibility and Review Criteria

The following entities are eligible applicants for PTC implementation projects:

• Passenger and freight railroad carriers;

• Railroad suppliers; and

• State and local governments for projects that have a public benefit of improved safety and network efficiency.

To be eligible for assistance, the above entities subject to 49 U.S.C. 20157(a) must have submitted a revised Positive Train Control Implementation Plan (PTCIP) to FRA as required by 49 U.S.C. 20157(a). FRA considers the development and submission of a revised PTCIP under 49 U.S.C. 20157(a) to meet the eligibility requirement related to submitting a plan required under 49 U.S.C. 20156(e)(2) containing an analysis of the impact, feasibility, costs and benefits of implementing PTC system technology. FRA believes that any submission connected to sec. 20156(e)(2), which has yet to be incorporated into a Federal regulation, would merely be duplicative of what a railroad analyzed when it developed and submitted a revised PTCIP. Thus, FRA considers the submission of a revised PTCIP to meet the eligibility requirements in 49 U.S.C. 20158(b)(3) for purposes of this NOFO. If an applicant is not required to comply with either sec. 20157(a) or sec. 20156(e)(2), the applicant must demonstrate that to FRA's satisfaction in its NOFO application.

The FRA is soliciting applications for projects that will benefit overall PTC system implementation on freight, intercity passenger, and commuter railroads. Under 49 U.S.C. 20158(b)(2), the FRA shall give priority to projects that (A) focus on making technologies interoperable between railroad systems, such as train control technologies; (B) accelerate train control technology deployment on high-risk corridors, such as those that have high volumes of hazardous materials shipments or over which commuter or passenger trains operate; or (C) benefit both passenger and freight safety and efficiency. Given that the amount of funding available is not likely sufficient to cover the costs necessary to deploy PTC on any given railroad, FRA will further prioritize projects that not only fall within these areas but also involve:

1. An entity or entities that have submitted a revised PTCIP and demonstrated progress in implementing PTC in accordance with its PTCIP and have shown good faith in attempting to timely complete PTC implementation;

2. Collaboration between freight and passenger railroad carriers, railroad suppliers, and State and local governments, particularly related to interoperability and other industry-wide PTC technical and management issues;

3. The development and deployment of technologies that will lower costs, accelerate implementation, increase interoperability between host and tenant operations, and improve reliability of PTC systems; and

4. The development and deployment of technologies that will eliminate PTC communications interference, provide solutions to configuration management of multi-railroad PTC software and firmware deployments, eliminate PTC communications interference; provide configuration management of multi-railroad PTC software and firmware deployments; and provide host-tenant railroad PTC interoperability/system certification.

Examples of eligible projects include the following:

• Costs for implementation, installation, and testing of PTC systems;

• Costs for shared PTC infrastructure (e.g., back office systems, CAD systems); and

• Costs to advance PTC interoperability, such as pilot programs, standardization committees, development of standard processes, and spectrum acquisition, sharing, and desensitization.

Applicants should note that these aspects represent suggested areas of interest by the FRA, and any otherwise eligible applications meeting the criteria above will be evaluated and considered for award.

By statute, 49 U.S.C. 20158 allows for up to an 80 percent Federal share of project costs. The required 20 percent non-Federal match may be comprised of public sector (state or local) or private sector funding. However, the FRA cannot consider any other Federal funds, nor any non-Federal funds already expended (or otherwise encumbered), towards the matching requirement. Additionally, FRA is limiting the method for calculating the non-Federal match to cash contributions only—“in-kind” contributions will not be accepted. Matching funds provided in excess of the minimum requirement will be considered in evaluating the merit of an application.

FRA intends to award funds to PTC projects that achieve the maximum public benefits possible. Analysis provided by applicants that quantifies the monetary value (whenever possible) of the anticipated public benefits of the proposed project will be particularly relevant to the FRA in evaluating applications. The systematic process of comparing expected benefits and costs helps decision-makers organize information about, and evaluate tradeoffs between, alternative transportation investments. FRA will consider benefits and costs using standard data and qualitative information provided by applicants and will evaluate applications in a manner consistent with Executive Order 12893 (Principles for Federal Infrastructure Investments, 59 FR 4233), Office of Management and Budget (OMB) Circular A-94 (Guidelines and Discount Rates for Benefit-Cost Analysis of Federal Programs), and OMB Circular A-4 (Regulatory Analysis). Applications for PTC projects will be reviewed by DOT subject matter experts against the following three evaluation criteria:

• PTC Deployment Benefits;

• Technical Merit; and

• Project Development approach.

PTC Deployment Benefits

The following factors will be considered in assessing a proposed project's achievement of PTC deployment benefits:

• The degree to which the successful implementation of the proposed project would advance the technical deployment of PTC, including improvements to reliability, safety, security, and maintainability;

• The degree to which the successful implementation of the proposed project would decrease PTC implementation and maintenance costs; and

• The degree to which the project maximizes the return on investment (ROI) towards industry-wide implementation efforts.

Technical Merit

The following factors will be considered in assessing a proposed project's technical merit:

• The degree to which the proposed project exhibits a sound scientific and engineering basis;

• The degree to which the proposed project could be practically applied in and compatible with the railroad's operating environment and infrastructure; and

• The perceived likelihood of technical and practical success.

Project Development Approach

The following factors will be considered in assessing the proposed project's planning and development to date:

• The technical qualifications and demonstrated experience of key personnel proposed to lead and perform the technical efforts, and qualifications of primary and supporting organizations to fully and successfully execute the proposal plan within the proposed timeframe and budget;

• The degree to which proposed effort is supported by multiple entities (letters of support are encouraged);

• The affordability and degree to which the proposed effort appears to be a good value for the amount of funding requested. Good value is defined as believing or concluding that the goods/services received were worth the price paid. Examples of the types of factors that may be considered include, but are not limited to, suitability, quality, skills, price, and life-cycle cost. The mix of these and other factors and the relevant importance of each will vary on a case by case basis;

• The reasonableness and realism of the proposed costs;

• The extent of proposed cost sharing or cost participation under the proposed effort (exclusive of the applicant's prior investment); and

• Preference will be given to projects that can demonstrate an ability to substantially complete work, or otherwise provide benefits to industry, prior to December 31, 2018.

All evaluation criteria, when combined, are significantly more important than cost or price alone. While cost or price will be a factor that is considered, technical merit is appreciably more important and, as such, greater consideration will be given to technical excellence. An offer must be found acceptable under all applicable evaluation factors to be considered eligible for award.

Selection Criteria

In addition to the evaluation criteria outlined above, the FRA Administrator will apply the following selection criteria to further ensure that the projects selected for funding advance FRA's current mission and key priorities:

Alignment with the DOT Strategic Goals and Priorities

• Improving transportation safety;

• Maintaining transportation infrastructure in a state of good repair;

• Promoting economic competitiveness;

• Advancing environmentally sustainable transportation policies;

• Enhancing quality of life; and

• Building ladders of opportunity to expand the middle class.

Proposed projects that demonstrate the ability to provide reliable, safe and affordable transportation choices to connect economically disadvantaged populations, non-drivers, senior citizens, and persons with disabilities in disconnected communities with employment, training and education will receive particular consideration during project selection.

Project Delivery Performance

• The applicant's track record in successfully delivering previous FRA and DOT grants on time, on budget, and for the full intended scope;

• The applicant's means for achieving satisfactory continuing control over project assets in a timely manner, including public ownership of project assets or agreements with railroad operators and infrastructure owners at the time of application; and

• The extent to which the proposed project complements previous FRA or DOT awards.

Region/Location

• The extent to which the proposed project increases the economic productivity of land, capital, or labor at specific locations, particularly in economically distressed areas;

• Ensuring appropriate level of regional balance across the country;

• Ensuring consistency with national transportation and rail network objectives; and

• Ensuring integration with other rail services and transportation modes.

Innovation/Resource Development

• Pursuing new rail technologies that result in favorable public return on investment and ensure delivery of project benefits; and

• Promoting innovations that demonstrate the value of new approaches to, among other things, transportation funding and finance, contracting, project delivery, congestion management, safety management, asset management, or long-term operations and maintenance.

Federal Awardee Performance and Integrity Information System (FAPIIS) Review

Before making a Federal award with a total amount of Federal share greater than the simplified acquisition threshold (see 2 CFR 200.88 Simplified Acquisition Threshold), FRA will review and consider any information about the applicant that is in the designated integrity and performance system accessible through the System for Award Management (SAM) (currently the Federal Awardee Performance and Integrity Information System (FAPIIS)) (see 41 U.S.C. 2313).

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205 (Federal Awarding Agency Review of Risk Posed by Applicants).

Section 4: Application and Submission Information

Complete applications must be submitted to Grants.gov no later than 5:00 p.m. DST, May 20, 2016. Applicants are strongly encouraged to apply early to ensure that all materials are received before this deadline.

To apply for funding through Grants.gov, applicants must be properly registered. Complete instructions on how to register and submit an application can be found at Grants. gov. Registering with Grants.gov is a onetime process; however, it can take up to several weeks for first-time registrants to receive confirmation and a user password. FRA recommends that applicants start the registration process as early as possible to prevent delays that may preclude submitting an application package by the application deadline. Applications will not be accepted after the due date. Delayed registration is not an acceptable justification for an application extension. (Please note that if a Dun &Bradstreet (DUNS) number must be obtained, this may take a significant amount of time to complete.)

Required documents for the application package are outlined in the following paragraphs. Applicants must complete and submit all components of the application package. FRA welcomes the submission of other relevant supporting documentation that may have been developed by the applicant (planning, engineering and design documentation, and letters of support). In particular, applications accompanied by completed feasibility studies and cost estimates may be more favorably considered during the evaluation process, as they demonstrate that an applicant has a greater understanding of the scope and cost of the project.

Applicants should submit all application materials through Grants.gov. For any required or supporting application materials that an applicant is unable to submit via Grants.gov (such as oversized engineering drawings), an applicant may submit an original and two (2) copies to Mr. Marvin Winston, Office of Program Delivery, Federal Railroad Administration, 1200 New Jersey Avenue SE., Room W36-440, Washington, DC 20590; Email: marvin.winston@dot.gov. However, due to delays caused by enhanced screening of mail delivered via the U.S. Postal Service, applicants are advised to use other means of conveyance (such as courier service) to assure timely receipt of materials. Additionally, if documents can be obtained online, direction to access files on a referenced Web site may also be sufficient.

The following points describe the minimum content which are required in the Project Narrative component of grant applications (additionally, FRA recommends that the Project Narrative generally adhere to the following outline). These requirements must be satisfied through a narrative statement submitted by the applicant, and may be supported by spreadsheet documents, tables, maps, drawings, and other materials, as appropriate. The Project Narrative may not exceed 25 pages in length (including any appendices). Applications containing Project Narratives that exceed this 25 page limitation will not be reviewed or considered for award.

Applicants should read this section carefully and must submit all required information.

1. Include a title page that lists the following elements in either a table or formatted list: Project title, location (i.e., city, State, district), the applicant organization name, the name of any co-applicants, and the amount of Federal funding requested and the proposed non-Federal match.

2. Designate a point of contact for the applicant and provide his or her name and contact information, including phone number, mailing address and email address. The point of contact must be an employee of an eligible applicant.

3. Indicate the amount of Federal funding requested, the proposed non-Federal match, and total project cost. Additionally, identify any other sources of Federal funds committed to the project, as well as any pending Federal requests. Make sure to also note if the requested Federal funding must be obligated or expended by a certain date due to dependencies or relationships with other Federal or non-Federal funding sources, related projects, or other factors. Finally, specify whether Federal funding has ever previously been sought for the project and not secured, and name the Federal program and fiscal year for funding request.

4. Explain how the applicant meets the applicant eligibility criteria, as outlined in Section 3 of this notice.

5. Provide a brief 4-6 sentence summary of the proposed project, capturing the transportation challenges the proposed project aims to address, as well as the intended outcomes and anticipated benefits that will result from the proposed project.

6. Include a detailed project description that expands upon the brief summary required above. This detailed description should provide, at a minimum, additional background on the transportation challenges the project aims to address, the expected users and beneficiaries of the project, the specific components and elements of the project, and any other information the applicant deems necessary to justify the proposed project. The detailed description should also clearly explain how the proposed project meets the project eligibility criteria, as outlined in Section 3 of this notice.

7. Include a thorough discussion of how the project meets all of the evaluation criteria for the respective project type, as outlined in Section 3 of this notice. Applicants should note that FRA reviews applications based upon the evaluation criteria. If an application does not sufficiently address the evaluation criteria, it is unlikely to be a competitive application. In responding to the criteria, applicants are reminded to clearly identify, quantify, and compare expected benefits and costs of proposed projects. The FRA understands that the level of detail and sophistication of analysis that should be expected for relatively small projects (i.e., those encouraged to be limited to under $3,000,000 in this notice) is less than for larger investments.

8. Describe proposed project implementation and project management arrangements. Include descriptions of the expected arrangements for project contracting, contract oversight, change-order management, risk management, and conformance to Federal requirements for project progress reporting.

Additional Application Elements

Applicants must:

○ Submit a Statement of Work (SOW) that addresses the scope, schedule, and budget for the proposed project if it were to be selected for award. The SOW must contain sufficient detail so that both FRA and the applicant can understand the expected outcomes of the proposed work to be performed and monitor progress toward completing project tasks and deliverables during a prospective grant's period of performance. FRA has developed a standard SOW template that applicants must use to be considered for award. The SOW templates and other required forms are located at www.fra.dot.gov/Page/P0701;

○ Describe anticipated environmental and historic preservation impacts associated with the proposed project, any environmental or historic preservation analyses that have been prepared, and progress toward completing any environmental documentation or clearance required for the proposed project under National Environmental Policy Act (NEPA), the National Historic Preservation Act, section 4(f) of the U.S. DOT Act, the Clean Water Act, and other applicable Federal or State laws. Applicants are encouraged to contact FRA and obtain preliminary direction regarding the appropriate NEPA action and required environmental documentation. Generally, projects will be ineligible to receive funding if they have begun construction activities prior to the applicant receiving written approval from FRA that all environmental and historical analyses have been completed. Additional information regarding FRA's environmental processes and requirements are located at https://www.fra.dot.gov/eLib/Details/L05286;

○ Submit the FRA's Additional Assurances and Certifications;

○ Submit an SF 424A—Budget Information for Non-Construction or SF 424C—Budget Information for Construction;

○ Submit an SF 424B—Assurances for Non-Construction or SF 424D—Assurances for Construction; and

○ Submit an SF LLL: Disclosure of Lobbying Activities.

Section 5: Award Administration

Award Notices for applications selected for funding will be announced after the application review period. FRA will contact successful applicants after announcement with information and instructions about the award process. Notification of a selected application is not an authorization to begin proposed project activities. The period of performance for grants awarded under this notice is dependent upon the project, and will be determined on a grant-by-grant basis. Extensions to the period of performance will be considered only through written requests to the FRA with specific and compelling justifications for why an extension is required. Any obligated funding that has not been spent by the grantee and reimbursed by the FRA upon completion of the grant will be de-obligated.

The grantee and any sub-grantee must comply with all applicable laws and regulations. A non-exclusive list of administrative and national policy requirements that grantees must follow includes: 2 CFR part 200, procurement standards, compliance with Federal civil rights laws and regulations, disadvantaged business enterprises (DBE), debarment and suspension, drug-free workplace, FRA's and OMB's Assurances and Certifications, Americans with Disabilities Act (ADA), labor standards, safety oversight, environmental protection, NEPA, environmental justice, and Buy America or Buy American provisions (as applicable).

Reporting Requirements

The applicant will be required to comply with all standard FRA reporting requirements, including quarterly progress reports, quarterly Federal financial reports, and interim and final performance reports. Reports may be submitted electronically. The applicant must comply with all relevant requirements of 2 CFR 180.335 and 180.350.

The grantee must comply with all post-award reporting, auditing, monitoring, and close-out requirements.

Section 6: Agency Contact

If you have a project related question, you may call Dr. Mark Hartong, Scientific and Technical Advisor (Phone: (202) 493-1332; email: Mark.Hartong@dot.gov), or Mr. Devin Rouse, Program Manager (Phone: (202) 493-6185, email: devin.rouse@dot.gov). Grant application submission and processing questions should be addressed to Mr. Marvin Winston, Office of Program Delivery, Federal Railroad Administration, 1200 New Jersey Avenue SE., Room W36-440, Washington, DC 20590; Email: marvin.winston@dot.gov.

Information Collection: OMB has approved the information collection associated with the Rail Safety Technology Grants Program. The approval number for this collection of information is OMB No. 2130-0587.

Issued in Washington, DC on March 31, 2016.
Mary Ann McNamara,
Chief, Grant Management Division.

[FR Doc. 2016-07780 Filed 4-4-16; 8:45 am]

BILLING CODE 4910-06-P